DEPARTMENT OF COMMERCE

National Oceanic and Atmospheric Administration

RIN 0648-XC005

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Regional Administrator), has made a preliminary determination that an Exempted Fishing Permit (EFP) application contains all of the required information and warrants further consideration. This EFP would allow commercial fishing vessels to temporarily possess and scientifically sample fish caught during normal commercial fishing operations that would otherwise be required to be immediately discarded for the purpose of characterizing the bycatch of the Southern New England sea scallop fishery.

Regulations under the Magnuson-Stevens Fishery Conservation and Management Act require publication of this notification to provide interested parties the opportunity to comment on applications for proposed EFPs.

DATES: Comments must be received on or before May 9, 2012.

ADDRESSES: You may submit written comments by any of the following methods:

• Email: nero.efp@noaa.gov. Include in the subject line “Comments on Fisheries Specialists 2012 Scallop RSA EFP.”

• Mail: Daniel S. Morris, Acting Regional Administrator, NMFS, NE Regional Office, 55 Great Republic Drive, Gloucester, MA 01930. Mark the outside of the envelope “Comments on Fisheries Specialists EFP.”

• Fax: (978) 281-9135.

FOR FURTHER INFORMATION CONTACT: Christopher Biegel, Fishery Management Specialist, 978-281-9112, Christopher.Biegel@noaa.gov.

SUPPLEMENTARY INFORMATION: Fisheries Specialists, a fisheries research company, submitted a complete application for an EFP on March 5, 2012, to conduct commercial fishing activities that the regulations would otherwise restrict. The EFP would authorize four vessels to temporarily possess and scientifically sample fish caught during commercial fishing operations that would otherwise be required to be immediately discarded.

The requested exemptions from size and possession limits are in support of a project that proposes to characterize bycatch in the Southern New England scallop fishery. This project is titled “Bycatch Characterization in the Southern New England Sea Scallop Fishery,” and has been selected to be funded under the 2012 scallop research set-aside (RSA) program. Because catch sampling of bycatch will occur during commercial fishing operations, Fisheries Specialists requested temporary exemptions from size and possession limits of potential bycatch species. Aside from these exemptions, fishing activity would be conducted under normal commercial fishing practices and the associated Federal regulations. The exemptions would not include species protected under the Endangered Species Act. Limited Access General Category (LAGC) vessels will land catch in accordance with the conditions of the Federal permits held by the individual vessel and any prohibited catch will be discarded after sampling.

Fisheries Specialists will be placing trained scientific observers aboard LAGC vessels to collect bycatch data during the course of normal commercial fishing operations. The observers will conduct four days of sampling each month for 12 months for a total of 48 sampling days between April 2012 and May 2012, in open areas offshore of Massachusetts and Rhode Island in the Southern New England/Mid-Atlantic (SNE/MA) management area, with a focus on statistical area 539.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: April 19, 2012.
Emily H. Menashes,
Acting Director, Office of Sustainable Fisheries, National Marine Fisheries Service.

[FR Doc. 2012-9816 Filed 4-23-12; 8:45 am]

BILLING CODE 3510-22-P